DEPARTMENT OF HOUSING AND URBAN DEVELOPMENT

[Docket No. FR-4579-FA-08]

Housing Counseling Program Announcement of Noncompetitive Funding Awards for Fiscal Year 2000

AGENCY: Office of the Assistant Secretary for Housing—Federal Housing Commissioner, HUD.

ACTION: Announcement of noncompetitive funding awards.

SUMMARY: In accordance with section 102(a)(4)(C) of the Department of Housing and Urban Development Reform Act of 1989, this announcement notifies the public of funding decisions made by the Department in response to unsolicited proposals for funding of organizations providing housing counseling services. This announcement contains the names and addresses of the agencies selected for funding and the award amount.

FOR FURTHER INFORMATION CONTACT: Margaret Burns, Director, Program Support Division, Room 9166, Office of Single Family Housing, Department of Housing and Urban Development, 451 Seventh Street, SW., Washington, DC 20410, telephone (202) 708-2121. Hearing- or speech-impaired individuals may access this number by calling the Federal Information Relay Service on 1-800-877-8339 or (202) 708-9300. (With the exception of the “800” number, these are not toll free numbers.)

SUPPLEMENTARY INFORMATION: The Housing Counseling Program is authorized by Section 106 of the Housing and Urban Development Act of 1968 (12 U.S.C. 1701x). HUD enters into agreement with qualified public or private nonprofit organizations to provide housing counseling services to low- and moderate-income individuals and families nationwide. The services include providing information, advice and assistance to renters, first-time homebuyers, homeowners, and senior citizens in areas such as pre-purchase counseling, financial management, property maintenance and other forms of housing assistance to improve the clients' housing conditions and meet the responsibilities of tenancy and homeownership.

The purpose of the grant is to offer financial assistance to organizations that offer housing counseling services to meet priority housing needs, as identified by HUD. The availability of housing counseling program grants depends upon the appropriation of funds by the U.S. Congress for this purpose, the amount of those funds, and the recapture of any unspent funds from previous years' competitions for awards.

The 2000 grantees announced in this Notice were selected for funding based on the submission of unsolicited proposals. The selected grantees submitted proposals to undertake housing counseling activities that met two priority needs identified by HUD and Congress: assisting victims of and preventing predatory lending and ensuring that counseling is available for clients interested in HUD's Home Equity Conversion Mortgage (HECM) program. Applicants were selected for funding on the strength of their proposals and their ability to serve a significant number of clients in need of assistance.

HUD awarded $1.85 million in non-competitive housing counseling grants to 13 service providers: 11 local housing counseling agencies, 1 national housing counseling intermediary, and 1 national foundation.

In accordance with section 102(a)(4)(C) of the Department of Housing and Urban Development Reform Act of 1989 (103 Stat. 1987, 42 U.S.C. 3545), the Department is publishing the names, addresses, and award amounts as provided in Appendix A.

(The Catalog of Federal Domestic Assistance number for this program is 14.169)

Dated: April 3, 2001.
Sean Cassidy,
General Deputy Assistant Secretary for Housing-Deputy Federal Housing Commissioner.

Appendix A—Recipients of Noncompetitive Funding Awards for the Housing Counseling Program—FY 2000

HECM Counseling Award

AARP, 601 E Street, NW, Washington, DC 20049, Award Amount: $550,000

Predatory Lending Awards

Local Agencies

Saint Ambrose Housing Aid Center, 321 E 25th Street, Baltimore, MD 21218-5303, Amount Awarded: $120,000

Govans Economic Management Senate, Incorporated, 4324 York Road, Ste 203, Baltimore, MD 21212, Amount Awarded: $80,000

Spanish Coalition for Housing, 4035 W North Ave, Chicago, IL 60639, Amount Awarded: $75,000

Neighborhood Housing Services of Chicago, Incorporated, 747 N May St, Chicago, IL 60622-5854, Amount Awarded: $100,000

Community and Economic Development Association—CEDA, 208 S La Salle St., Suite 1900, Chicago, IL 60604-1104, Amount Awarded: $75,000

Chicago Urban League Development Corporation, 4510 S Michigan Ave., Chicago, IL 60653-3898, Amount Awarded: $50,000

Consumer Credit Counseling Service of Los Angeles, 5191 Whittier Boulevard, Los Angeles, CA 90022, Amount Awarded: $100,000

Los Angeles Neighborhood Housing Services, 3111 South Flower Street, Los Angeles, CA 90007, Amount Awarded: $100,000

Cypress Hills Local Development Corporation, 3214 Fulton St, Brooklyn, NY 11208-1908, Amount Awarded: $75,000

Jamaica Housing Improvement, Incorporated, 161-10 Jamaica Ave., Suite 601, Jamaica, NY 11432-6149, Amount Awarded: $75,000

Neighborhood Housing Services of New York City, Incorporated, 121 W 27th Street Suite 404, New York, NY 10001, Amount Awarded: $75,000

United Jewish Organizations of Williamsburg, Inc., 32 Penn Street, Brooklyn, New York 1121, Amount Awarded: $200,000

National Intermediary

Acorn Housing Corporation, 650 S. Clark, Chicago, IL 60605, Amount Awarded: $300,000

[FR Doc. 01-8941 Filed 4-10-01; 8:45 am]

BILLING CODE 8010-01-P